DEPARTMENT OF ENERGY

Federal Energy Regulatory Commission

Combined Notice of Filings #1

Take notice that the Commission received the following exempt wholesale generator filings:

Docket Numbers: EG14-29-000.

Applicants: RE Camelot LLC.

Description: RE Camelot LLC Notice of Self-Certification of Exempt Wholesale Generator Status.

Filed Date: 3/12/14.

Accession Number: 20140312-5074.

Comments Due: 5 p.m. ET 4/2/14.

Docket Numbers: EG14-30-000.

Applicants: Windthorst-2, LLC.

Description: Notice of Self-Certification of EWG Status of Windthorst-2, LLC.

Filed Date: 3/12/14.

Accession Number: 20140312-5328.

Comments Due: 5 p.m. ET 4/2/14.

Docket Numbers: EG14-31-000.

Applicants: Spinning Spur Wind Two, LLC.

Description: Notice of Self-Certification of Exempt Wholesale Generator Status of Spinning Spur Wind Two, LLC.

Filed Date: 3/18/14.

Accession Number: 20140318-5192.

Comments Due: 5 p.m. ET 4/8/14.

Take notice that the Commission received the following electric rate filings:

Docket Numbers: ER14-1363-001; ER10-3195-002; ER10-3194-002.

Applicants: Kendall Green Energy LLC, MATEP Limited Partnership, MATEP LLC.

Description: Substitute Appendix B to February 28, 2014 Notice of Change in Status of Kendall Green Energy LLC, et. al.

Filed Date: 3/18/14.

Accession Number: 20140318-5237.

Comments Due: 5 p.m. ET 4/8/14.

Docket Numbers: ER14-1521-000.

Applicants: Sierra Pacific Power Company.

Description: Rate Schedule No. 66 Engineering Procurement Construction Agr-Liberty Utilities to be effective 3/19/2014.

Filed Date: 3/18/14.

Accession Number: 20140318-5183.

Comments Due: 5 p.m. ET 4/8/14.

Docket Numbers: ER14-1522-000.

Applicants: Midcontinent Independent System Operator, Inc.

Description: Midcontinent Independent System Operator, Inc. submits Entergy March Notice of Succession Filing to be effective 12/19/2013.

Filed Date: 3/18/14.

Accession Number: 20140318-5207.

Comments Due: 5 p.m. ET 4/8/14.

Docket Numbers: ER14-1523-000.

Applicants: Constellation Power Source Generation, LLC.

Description: Notice of Cancellation and Transfer of Tariff Identifier to be effective 3/19/2014.

Filed Date: 3/18/14.

Accession Number: 20140318-5218.

Comments Due: 5 p.m. ET 4/8/14.

Docket Numbers: ER14-1524-000.

Applicants: Constellation Power Source Generation, LLC.

Description: Notice of Administrative eTariff Revisions to be effective 3/19/2014.

Filed Date: 3/18/14.

Accession Number: 20140318-5223.

Comments Due: 5 p.m. ET 4/8/14.

Docket Numbers: ER14-1525-000.

Applicants: Southern California Edison Company.

Description: Notices of Cancellation with Kona Solar LLC to be effective 2/25/2014.

Filed Date: 3/19/14.

Accession Number: 20140319-5090.

Comments Due: 5 p.m. ET 4/9/14.

Docket Numbers: ER14-1526-000.

Applicants: Southern California Edison Company.

Description: Notices of Cancellation with Photon Solar LLC to be effective 12/10/2013.

Filed Date: 3/19/14.

Accession Number: 20140319-5003.

Comments Due: 5 p.m. ET 4/9/14.

Docket Numbers: ER14-1527-000.

Applicants: Southern California Edison Company.

Description: GIA and Distribution Service Agreement with Adelanto Solar, LLC to be effective 3/20/2014.

Filed Date: 3/19/14.

Accession Number: 20140319-5004.

Comments Due: 5 p.m. ET 4/9/14.

Docket Numbers: ER14-1528-000.

Applicants: Southwest Power Pool, Inc.

Description: 2824 KMEA & Sunflower Meter Agent Agreement to be effective 3/1/2014.

Filed Date: 3/19/14.

Accession Number: 20140319-5037.

Comments Due: 5 p.m. ET 4/9/14.

Docket Numbers: ER14-1529-000.

Applicants: Southwest Power Pool, Inc.

Description: 2855 KMEA & KCPL Meter Agent Agreement to be effective 3/1/2014 under ER14-1529 Filing Type: 10.

Filed Date: 3/19/14.

Accession Number: 20140319-5064.

Comments Due: 5 p.m. ET 4/9/14.

Docket Numbers: ER14-1530-000.

Applicants: Southwest Power Pool, Inc.

Description: 2829 Midwest Energy, Inc. & Westar Meter Agent Agreement to be effective 3/1/2014.

Filed Date: 3/19/14.

Accession Number: 20140319-5069.

Comments Due: 5 p.m. ET 4/9/14.

Docket Numbers: ER14-1531-000.

Applicants: Southern California Edison Company.

Description: SGIAs with Kingbird Solar A, LLC and Kingbird Solar B, LLC to be effective 3/11/2014.

Filed Date: 3/19/14.

Accession Number: 20140319-5079.

Comments Due: 5 p.m. ET 4/9/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 19, 2014.
Nathaniel J. Davis, Sr.,
Deputy Secretary.

[FR Doc. 2014-06688 Filed 3-25-14; 8:45 am]

BILLING CODE 6717-01-P